DEPARTMENT OF TRANSPORTATION

Federal Highway Administration

Environmental Impact Statement: Erie County, NY

AGENCY: Federal Highway Administration (FHWA), New York State Department of Transportation (NYSDOT) DOT.

ACTION: Notice of Intent.

SUMMARY: The FHWA is issuing this notice to advise the public that the Southtowns Connector/Buffalo Outer Harbor scoping process has resulted in a major revision to the project's alternatives. Previously, the range of ‘Build Alternatives’ included new freeway extensions, added freeway capacity or a new transit way. The environmental impact statement will now be progressed with a combination of a new arterial, existing local street/arterial improvements and improved transit/pedestrian/bicyclist facilities.

FOR FURTHER INFORMATION CONTACT: Robert E. Arnold, Division Administrator, Federal Highway Administration, Leo O'Brien Federal Building—7th Floor, Albany, New York 12207, Telephone (518) 431-4127 or Brian O. Rowback, Regional Director, New York State Department of Transportation, 125 Main Street, Buffalo, New York 14203, Telephone: (716) 847-3238.

SUPPLEMENTARY INFORMATION: The Federal Administration, in cooperation with the New York State Department of Transportation (NYSDOT), will prepare an environmental impact statement (EIS) for the proposed Southtowns Connector/Buffalo Outer Harbor Project in Erie County, New York. The proposed improvements could include existing street and arterial road system consolidation, additional arterial street capacity and improved transit/pedestrian/bicyclist facilities. These improvements are considered necessary because the existing transportation facilities do not provide for waterfront access, adequately connect development sites, provide sufficient capacity or include provisions for multi-modal uses. Alternatives under consideration are: (1) taking no action, (2) transportation systems management (improvement existing facility efficiency) and (3) provide existing street and arterial improvements and a new arterial street. Letters describing the proposed action and soliciting comments will be sent to appropriate Federal, State, local agencies and to private organizations and citizens who have previously expressed interest or are known to have an interest in this proposal. A formal scoping process will be followed for this revised project proposal. This process will include public and agency meetings to be scheduled. Advance notice will be provided through the media. In addition, public hearings will be held. The draft EIS will be available for public and agency review and comment prior to these public hearings.

To ensure that the full range of issues related to this proposed action are addressed and all significant issues identified, comments and suggestions are invited from all agencies and interested parties. Comments or questions concerning this proposed action and the EIS should be directed to the NYSDOT or FHWA at the address provided above.

Authority 23 U.S.C. 315, 23 CFR 771.123.

Issued on: September 5, 2001.
Douglas P. Conlan,
District Engineer, Federal Highway Administration, Albany, New York.

[FR Doc. 01-22952 Filed 9-12-01; 8:45 am]

BILLING CODE 4910-22-M